DEPARTMENT OF AGRICULTURE

Office of the Secretary

Lake Tahoe Basin Federal Advisory Committee

AGENCY: Forest Service, USDA.

ACTION: Notice; Solicitation of nominees to the Lake Tahoe Basin Federal Advisory Committee.

SUMMARY: In accordance with the Federal Advisory Committee Act, 5 U.S.C., App. 2, the United States Department of Agriculture (USDA) announces solicitation of nominees to fill vacancies on the Lake Tahoe Basin Federal Advisory Committee (Committee).

DATES: Nominations must be received on or before March 14, 2013. Nominations must contain a completed application packet that includes the nominees' name, resume, and completed Form AD-755, Advisory Committee or Research and Promotion Background Information. The package must be sent to the address below.

ADDRESSES: Arla Haines, USDA Forest Service, Lake Tahoe Basin Management Unit, 35 College Drive, South Lake Tahoe, CA 96150. Telephone: (503) 543-2773,

FOR FURTHER INFORMATION CONTACT: Arla Haines, USDA Forest Service, Lake Tahoe Basin Management Unit, 35 College Drive, South Lake Tahoe, CA 96150. Telephone: (503) 543-2773, Email: ashains@fs.fed.us. Individuals who use telecommunication devices for the deaf (TDD) may call the Federal Information Relay Service (FIRS) at 1-800-877-8339 between 8:00 a.m. and 8:00 p.m., Eastern Standard Time, Monday through Friday.

SUPPLEMENTARY INFORMATION:

Background

The Secretary of Agriculture established the Committee on July 13, 1998 to provide a critical role in advising the Secretary of Agriculture and the Lake Tahoe Federal Interagency Partnership on coordinating federal programs to achieve the goals of the Lake Tahoe Environmental Improvement Program. The purpose of the Committee is to provide advice to the Secretary of Agriculture and to the Federal Interagency Partnership on how to work cooperatively to protect the extraordinary natural, recreational, and ecological resources in the Lake Tahoe Region, pursuant to Executive Order 13057, issued July 26, 1997.

Committee Membership

The Committee will be comprised of no more than 20 members approved by the Secretary of Agriculture. Committee membership will be fairly balanced in terms of the points of view represented, functions to be performed, and will represent a broad array of interests in the Lake Tahoe Basin. The Committee members will serve staggered terms up to 3 years, and will meet a minimum of 4 times a year, alternating locations between the North and South Shore areas. No individual who is currently registered as a Federal lobbyist is eligible to serve as a member of the Committee.

The Committee shall include representation in the following areas:

1. Two representatives as Members-At-Large; and

2. One representative in the following sectors: a) Gaming, b) Environmental, c) National Environmental, d) Ski Resorts, e) North Shore Economic/Recreation, f) South Shore Economic/Recreation, g) Resorts, h) Education, i) Property Rights Advocates, j) Science and Research, k) California local government, l) Nevada local government, m) Washoe tribe, n) State of Califonia, o) State of Nevada, p) Tahoe Regional Planning Agency, q) Labor, and r) Transportation.

Nominations and Application Information for the Committee

The appointment of members to the Committee will be made by the Secretary of Agriculture. Any individual or organization may nominate one or more qualified persons to represent the vacancies listed above. To be considered for membership, nominees must—

1. Identify what vacancy they would represent and how they are qualified to represent that vacancy;

2. State why they want to serve on the committee and what they can contribute;

3. Show their past experience in working successfully as part of a working group on how to work cooperatively to protect natural, recreational, and ecological resources; and Complete Form AD-755. You may contact the person above or the following Web site: http://www.usda.gov/documents/OCIO_AD_755_Master_2012.pdf.

All nominations will be vetted by the Agency. Members of the Committee will serve without compensation, but may be reimbursed for travel expenses while performing duties on behalf of the Committee, subject to approval by the DFO.

Equal opportunity practices, in line with USDA policies, will be followed in all appointments to the Committee. To ensure that the recommendations of the Committee have taken into account the needs of the diverse groups served by the Departments, membership should include, to the extent practicable, individuals with demonstrated ability to represent minorities, women, and persons with disabilities.

Dated: January 28, 2013.
Gregory Parham,
Acting Assistant Secretary of Administration.

[FR Doc. 2013-03128 Filed 2-11-13; 8:45 am]

BILLING CODE 3410-11-P